ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled a public hearing and its regular business meetings to take place in Arlington, Virginia on Monday and Wednesday, March 13 and 15, 2000, at the times and location noted below.

DATES: The schedule of events is as follows:

Monday, March 13, 2000

9:30 a.m.-5:00 p.m. Public Hearing on Americans with Disabilities Act/Architectural Barriers Act Accessibility Guidelines

Wednesday, March 15, 2000

9:00 a.m.-10:00 a.m. Planning and Budget Committee

10:00 a.m.-11:00 a.m. Technical Programs Committee

11:00 a.m.-Noon Executive Committee

1:30 p.m.-3:30 p.m. Board Meeting

ADDRESSES: The meetings will be held at the Sheraton Crystal City, 1800 Jefferson Davis Highway, Arlington, VA.

FOR FURTHER INFORMATION CONTACT: For further information regarding the meetings, please contact Lawrence W. Roffee, Executive Director, (202) 272-5434, ext. 14 (voice) and (202) 272-5449 (TTY).

SUPPLEMENTARY INFORMATION: At the Board meeting, the Access Board will consider the following agenda items.

• Executive Director's Report

• Approval of the Minutes of the September 15, 1999 Board Meeting

• Executive Committee Report—Standard-Setting Agencies on Actions to Update Their Standards and Process for Reviewing Board's Goals

• Planning and Budget Committee Report—Rulemaking Plan, Fiscal Year 2000 Spending Plan, and Status of Work on the Agency Goals

• Technical Programs Committee Report—Status Report on Research and Technical Assistance Projects

• Election of Officers

All meetings are accessible to persons with disabilities. Sign language interpreters and an assistive listening system are available at all meetings.

Lawrence W. Roffee,
Executive Director.

[FR Doc. 00-4767 Filed 2-28-00; 8:45 am]

BILLING CODE 8150-01-P